DEPARTMENT OF AGRICULTURE

National Institute of Food and Agriculture

Notice of Intent To Revise a Currently Approved Information Collection

AGENCY: National Institute of Food and Agriculture, USDA.

ACTION: Notice and request for comments.

SUMMARY: In accordance with the Office of Management and Budget (OMB) Paperwork Reduction Act of 1995, this notice announces the National Institute of Food and Agriculture's (NIFA) intention to revise a currently approved information collection entitled, “Cooperative State Research, Education, and Extension Service Grant Application.” NIFA also intends to rename the information collection, “NIFA Grant Application.”

DATES: Written comments on this notice must be received by August 28, 2012 to be assured of consideration. Comments received after that date will be considered to the extent practicable.

ADDRESSES: Written comments concerning this notice and requests for copies of the information collection may be submitted by any of the following methods: Email: gmendez@nifa.usda.gov; Fax: 202-720-0857; Mail: Office of Information Technology (OIT), NIFA, USDA, STOP 2216, 1400 Independence Avenue SW., Washington, DC 20250-2216.

FOR FURTHER INFORMATION CONTACT: Gidel Mendez; Email: gmendez@nifa.usda.gov.

SUPPLEMENTARY INFORMATION: Title: NIFA Grant Application.

OMB Number: 0524-0039.

Expiration Date of Current Approval: August 31, 2012.

Type of Request: Revise a currently approved information collection.

Abstract: The National Institute of Food and Agriculture (NIFA) sponsors ongoing agricultural research, extension, and education programs under which competitive, formula, and special awards of a high-priority nature are made. Before awards can be made, certain information is required from applicants as part of an application process.

The nature of the competitive, peer-reviewed process makes it important that information from applicants be available in a standardized format to ensure equitable treatment. Each year, request for applications are issued for various research, education, and extension areas targeted for support. Applicants submit applications for these targeted areas following formats outlined in the application guidelines accompanying each program's solicitation. These applications are evaluated by peer review panels, undergo other merit review processes, and are subsequently awarded. The forms and narrative information are mainly used for application evaluation and administration purposes. While some of the information is used to respond to inquiries from Congress and other government agencies, the forms are not designed to be statistical surveys.

NIFA requires submission of grant applications electronically through Grants.gov. The application processes through Grants.gov leverages several standard forms from the research and related form family. In addition to Grants.gov's standard forms, NIFA must collect some additional information for the proper evaluation and processing of applications. NIFA is also proposing some minor revisions to select forms as noted in each description. These forms include:

Supplemental Information Form—This form is used in all grant application packages and collects the program name and program code to which the applicant is applying, additional applicant type information, key words, and the conflict of interest information as an attached file. NIFA is proposing to revise this form to add the collection of the organizations Commercial and Government Entity (CAGE) code to assist in the validation of the organizational identity. NIFA also requests to replace the collection of the HHS account code (which is no longer used) with the Automated Standard Application for Payments (ASAP) Recipient ID.

Application Type Form—This form is used principally by the Agriculture and Food Research Initiative Competitive Grants Program to collect the specific type of application being submitted. This form is being revised to change the application type names and some business rules associated with the form.

Application Modification Form—This form is used to indicate the forms or narrative portions of an application that an applicant has changed or corrected from a previously submitted application. No changes to this form are proposed.

Form NIFA-2008, Assurance Statement(s)—This form is used in formula grant programs and provides required assurances of compliance with regulations involving the protection of human subjects, animal welfare, and recombinant DNA research.

Form NIFA-2010—Fellowships/Scholarships Entry/Annual Update/Exit Form: This form will only apply to recipients of a NIFA award to appoint each student beneficiary, report student progress, and the exit of each beneficiary of fellowship or scholarship support towards a higher education degree in food and agricultural sciences. The form will be used for fellowship and scholarships to document pertinent demographic data on the fellows/scholars, documentation of the progress of the fellows/scholars under the program, and performance outcomes of the student beneficiaries. The form name will change to replace CSREES with NIFA.

Summary of USDA/1890 Cooperation Form—NIFA will be eliminating this form from the collection as it is no longer required.

Respondents: Non-profit institutions, State, local, or Tribal governments, and a limited number of for-profit institutions and individuals.

Estimated Number of Responses by Form

Supplemental Information: 6,200.

Application Type: 2,200.

Application Modification: 0.

Form NIFA-2008 Assurance Statement(s): 2,000.

NIFA-2010 Fellowships/Scholarships Entry/Exit: 150.

The individual form burden is as follows (calculated based on a survey of grant applicants conducted by NIFA):

Supplemental Information: 2 hours.

Application Type: 15 minutes.

Application Modification: 5 minutes.

Form NIFA-2008 Assurance Statement(s): 30 minutes.

NIFA-2010 Fellowships/Scholarships Entry/Annual Update/Exit: 3 hours.

Estimated Total Annual Burden on Respondents: The annual total burden on the public for all forms is estimated to be 14,400 hours.

Frequency of Respondents: Annually.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments also will become a matter of public record.

Done in Washington, DC, this 25th day of June 2012.
Catherine E. Woteki,
Under Secretary, Research, Education, and Economics.

[FR Doc. 2012-16058 Filed 6-28-12; 8:45 am]

BILLING CODE 3410-22-P